DEPARTMENT OF JUSTICE

National Institute of Corrections

Advisory Board Meeting

TIME AND DATE: 7:30 a.m. to 5 p.m. on Monday, March 6, 2000 and 8:30 a.m. to 12 noon to Tuesday, March 7, 2000.

PLACE: Westin Hotel—Seattle, 1900 Fifth Avenue, Seattle, Washington 98101.

STATUS: Open.

MATTERS TO BE CONSIDERED: Tours/Presentations Concerning King County Crisis Triage Unit/Pre-Booking Diversion, Seattle Police Department Crisis Intervention Team, King County Mental Health Court Proceedings and Post-Booking Diversion Proceedings; Updates on Mentally Ill in Prisons and Jails, the NIC Strategic Plan, Interstate Compact Activities, Advisory Board Hearings; Reports by Program Divisions; FY 2001 Service Plan Recommendations; and FY 2002 Budget Recommendations.

CONTACT PERSON FOR MORE INFORMATION: Larry Solomon, Deputy Director, (202) 307-3106, ext. 155.

Morris L. Thigpen,
Director.

[FR Doc. 00-2515 Filed 2-3-00; 8:45 am]

BILLING CODE 4410-36-M